DEPARTMENT OF TRANSPORTATION

Maritime Administration

[Docket Number: MARAD-2000-7801]

Requested Administrative Waiver of the Coastwise Trade Laws

AGENCY: Maritime Administration, Department of Transportation.

ACTION: Invitation for public comments on a requested administrative waiver of the Coastwise Trade Laws for the vessel R' ADVENTURE II.

SUMMARY: As authorized by Public Law 105-383, the Secretary of Transportation, as represented by the Maritime Administration (MARAD), is authorized to grant waivers of the U.S.-build requirement of the coastwise laws under certain circumstances. A request for such a waiver has been received by MARAD. The vessel, and a description of the proposed service, is listed below. Interested parties may comment on the effect this action may have on U.S. vessel builders or businesses in the U.S. that use U.S.-flag vessels. If MARAD determines that in accordance with Public Law 105-383 and MARAD's regulations at 46 CFR Part 388 (65 FR 6905; February 11, 2000) that the issuance of the waiver will have an unduly adverse effect on a U.S.-vessel builder or a business that uses U.S.-flag vessels, a waiver will not be granted.

DATES: Submit comments on or before September 18, 2000.

ADDRESSES: Comments should refer to docket number MARAD-2000-7801. Written comments may be submitted by hand or by mail to the Docket Clerk, U.S. DOT Dockets, Room PL-401, Department of Transportation, 400 7th St., S.W., Washington, D.C. 20590-0001. You may also send comments electronically via the Internet at http://dmses.dot.gov/submit/. All comments will become part of this docket and will be available for inspection and copying at the above address between 10 a.m. and 5 p.m., e.t., Monday through Friday, except federal holidays. An electronic version of this document and all documents entered into this docket is available on the World Wide Web at http://dms.dot.gov.

FOR FURTHER INFORMATION CONTACT: U.S. Department of Transportation, Maritime Administration, MAR-832 Room 7201, 400 Seventh Street, S.W., Washington, DC 20590. Telephone 202-366-4357.

SUPPLEMENTARY INFORMATION: Title V of Public Law 105-383 provides authority to the Secretary of Transportation to administratively waive the U.S.-build requirements of the Jones Act, and other statutes, for small commercial passenger vessels (no more than 12 passengers). This authority has been delegated to the Maritime Administration per 49 CFR § 1.66, Delegations to the Maritime Administrator, as amended. By this notice, MARAD is publishing information on a vessel for which a request for a U.S.-build waiver has been received, and for which MARAD requests comments from interested parties. Comments should refer to the docket number of this notice and the vessel name in order for MARAD to properly consider the comments. Comments should also state the commenter's interest in the waiver application, and address the waiver criteria given in § 388.4 of MARAD'S regulations at 46 CFR Part 388.

Vessel Proposed for Waiver of the U.S.-build Requirement

(1) Name of vessel and owner for which waiver is requested: Name of vessel: R' ADVENTURE II. Owner: Spenser Rohrlick

(2) Size, capacity and tonnage of vessel: According to the Applicant: Length 39′6″; Breadth 13′9″; Draft 3′6″. The capacity of the vessel is a maximum of six passengers. The tonnage is 25 tons net and is calculated pursuant to 46 U.S.C. 14502.

(3) Intended use for vessel, including geographic region of intended operation and trade: According to the applicant: The intended use of the vessel is to enable an existing boat and breakfast with overnight accommodations for up to six guests to: (1) Leave its berth in Kingston NY with up to six passengers; (2) Cruise on the Hudson River to an anchorage for overnight anchoring purposes or (3) Cruise to a marina or yacht club where guests could go ashore for dinner or other shore based activities and return later to the vessel to sleep onboard. Breakfast to be served the next morning onboard. The geographic region for intended use would encompass the Rondout Creek in Kingston NY with a potential cruise range to as far south as West Point (32.6 miles) or as far north as Albany NY (46 miles).

(4) Date and place of construction and (if applicable) rebuilding: Date of construction: 1986. Place of construction: Kaoshiung Taiwan.

(5) A statement on the impact this waiver will have on other commercial passenger vessel operators: According to the applicant: This is an innovative and unique concept for the tourism industry. The nearest known Boat and Breakfast offering a cruise and overnight accommodations is located in Annapolis, MD. N.B. There are the two local boats engaged in cruise related activities originating from Kingston NY. One is the M/V Rip Van Winkle, which takes up to 300 passengers on a two-hour day or evening cruise. Passengers may buy refreshments onboard. They also offer a late night party cruise. The M/V Teal offers a two-hour cruise for up to 80 passengers and serves refreshments. Both vessels can be booked for private parties whereby catered meals are brought onboard for their guests. Nonetheless, neither vessel offers (1) Overnight accommodations, (2) Anchoring out overnight, (3) Cruising to other locations and, or course, (4) Breakfast for up to six guests.

(6) A statement on the impact this waiver will have on U.S. shipyards: According to the applicant: I do not believe that this vessel has had any negative impact on any U.S. shipyards. On the contrary, I believe that local marine repair facilities in the Kingston NY area have profited from me since I acquired this vessel in 1998. In addition to brokers fees (10% of the purchase price) and NY state sales tax, (7¾% of the purchase price) an additional 25% of the purchase price has been expended to repair, remodel, and upgrade this vessel with all work being done by local canvas, fiberglass, diesel engine, and air conditioning specialists located at area marina facilities.

Dated: August 15, 2000.
By Order of the Maritime Administrator.
Joel C. Richard,
Secretary, Maritime Administration.

[FR Doc. 00-21094 Filed 8-17-00; 8:45 am]

BILLING CODE 4910-81-P